DEPARTMENT OF HEALTH AND HUMAN SERVICES

Administration for Children and Families

Submission for OMB Review; Child Care and Development Fund (CCDF) Tribal Annual Report—ACF-700 (0970-0430)

AGENCY: Office of Child Care, Administration for Children and Families, HHS.

ACTION: Request for Public Comment.

SUMMARY: The Administration for Children and Families (ACF) is requesting a three-year extension of the form ACF-700: Child Care and Development Fund (CCDF) Tribal Annual Report (OMB #0970-0430, expiration 11/30/2019) with changes.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The Child Care and Development Fund (CCDF) Tribal Annual Report (ACF-700) requests Tribal Lead Agencies (TLAs) to provide annual Tribal aggregate information on services provided through the CCDF, which is required by CCDF regulations (45 FR parts 98 and 99). The revised ACF-700 report consists of an introductory section that provides program characteristics and two parts: (1) Administrative Data, and (2) Tribal Narrative. The content and format of the entire form have been revised to address Child Care and Development Block Grant (CCDBG) Act of 2014 changes and to reduce the reporting burden to TLAs.

Information from the ACF-700 will be included in the CCDF Report to Congress, as appropriate, and will be shared with TLAs to inform them of CCDF-funded activities.

Respondents: Tribal Governments.

Annual Burden Estimates
Instrument | Total number of respondents | Total number of responses per respondent | Average burden hours per response | Total burden hours | Annual burden hours
ACF-700 | 138 (Tribes with small allocation) | 3 | 19 | 7,866 | 2,622
ACF-700 | 83 (Tribes with medium/large allocation) | 3 | 26 | 6,474 | 2,158

Estimated Total Annual Burden Hours: 4,780.

Authority: 42 U.S.C. 9857.

Mary B. Jones,
ACF/OPRE Certifying Officer.

[FR Doc. 2019-25607 Filed 11-25-19; 8:45 am]

BILLING CODE 4184-43-P